DEPARTMENT OF JUSTICE

[AAG/A Order No. 018-2003]

Privacy Act of 1974; Notice of the Removal of a System of Records

Pursuant to the provisions of the Privacy Act of 1974 (5 U.S.C. 552a), the Personnel Staff, Justice Management Division (JMD), Department of Justice, is removing a published Privacy Act system of records entitled “Background Investigation Check-off Card, Justice/JMD-001.” Justice/JMD-001 was last published in the Federal Register on October 13, 1989 (54 FR 42085).

In the past, the Personnel Staff, JMD, had a system of maintaining an index card for each employee of the Offices, Boards, and Divisions for whom the U.S. Office of Personnel Management conducted background investigations. The index card was used to annotate and monitor the progress of the name and fingerprint checks and the full-field character investigations of employees. When a full-field background investigation or National Agency Check was initiated, the background investigation check-off card was forwarded to the JMD Security Staff where it was ultimately merged in the system of records entitled “Security Clearance Information System, Justice/JMD-008.”

The Personnel Staff has not used this system for approximately fourteen (14) years. The Personnel Staff eliminated the background investigation check off card and information on the cards was destroyed. In addition, recently, the Privacy Act notice for “Security Clearance Information System, JMD-008”, was replaced by notice of a new Departmentwide system of records for background investigation records, entitled “Personnel Investigation and Security Clearance Records for the Department of Justice, DOJ-006”, published September 24, 2002 (67 FR 59864).

Therefore, the “Background Investigation Check-off Card, JMD-001”, is removed from the Department's compilation of Privacy Act systems of records.

Dated: August 27, 2003.
Paul R. Corts,
Assistant Attorney General for Administration.

[FR Doc. 03-22696 Filed 9-5-03; 8:45 am]

BILLING CODE 4410-CG-P